DEPARTMENT OF DEFENSE

Department of the Air Force

U.S. Air Force Scientific Advisory Board Notice of Meeting

AGENCY: U.S. Air Force Scientific Advisory Board, Department of the Air Force, Defense.

ACTION: Meeting Notice.

SUMMARY: Under the provisions of the Federal Advisory Committee Act of 1972 (5 U.S.C., Appendix, as amended), the Government in the Sunshine Act of 1976 (5 U.S.C. 552b, as amended), and 41 CFR 102-3.150, the Department of Defense announces that the United States Air Force Scientific Advisory Board meeting will take place on Tuesday, January 12th, 2010, at the SAF/AQ Conference and Innovation Center, 1550 Crystal Dr., Arlington, VA, 22202. The meeting will be from 8 a.m.—5 p.m. The purpose of the meeting is to hold the United States Air Force Scientific Advisory Board quarterly meeting to discuss the FY10 Scientific Advisory Board study topics tasked by the Secretary of the Air Force and the results of the Air Force Research Laboratory Assessment.

Pursuant to 5 U.S.C. 552b, as amended, and 41 CFR 102-3.155, the Administrative Assistant of the Air Force, in consultation with the Office of the Air Force General Counsel, has determined in writing that the United States Air Force Scientific Advisory Board meeting will be closed to the public because they will be concerned with classified information and matters covered by sections 5 U.S.C. 552b(c) (1) and (4).

Any member of the public wishing to provide input to the United States Air Force Scientific Advisory Board should submit a written statement in accordance with 41 CFR 102-3.140(c) and section 10(a)(3) of the Federal Advisory Committee Act and the procedures described in this paragraph. Written statements can be submitted to the Designated Federal Officer at the address detailed below at any time. Statements being submitted in response to the agenda mentioned in this notice must be received by the Designated Federal Officer at the address listed below at least five calendar days prior to the meeting which is the subject of this notice. Written statements received after this date may not be provided to or considered by the United States Air Force Scientific Advisory Board until its next meeting. The Designated Federal Officer will review all timely submissions with the United States Air Force Scientific Advisory Board Chairperson and ensure they are provided to members of the United States Air Force Scientific Advisory Board before the meeting that is the subject of this notice.

FOR FURTHER INFORMATION CONTACT: The United States Air Force Scientific Advisory Board Executive Director and Designated Federal Officer, Lt Col Anthony M. Mitchell, 301-981-7135, United States Air Force Scientific Advisory Board, 1602 California Ave. Ste. 251, Andrews AFB, MD 20762, anthonym.mitchell@pentagon.af.mil.

Bao-Anh Trinh,
Air Force Federal Register Liaison Officer.

[FR Doc. E9-30981 Filed 12-29-09; 8:45 am]

BILLING CODE 5001-05-P